ENVIRONMENTAL PROTECTION AGENCY

40 CFR Part 300

[EPA-HQ-SFUND-1983-0002; FRL-8331-4]

National Oil and Hazardous Substances Pollution Contingency Plan; National Priorities List

AGENCY: Environmental Protection Agency.

ACTION: Direct Final Deletion of the Mannheim Avenue Dump Superfund Site from the National Priorities List.

SUMMARY: The Environmental Protection Agency (EPA), Region II, announces the deletion of the Mannheim Avenue Dump Superfund Site (Site), located in Galloway Township, New Jersey, from the National Priorities List (NPL) and will consider public comment on this action. The NPL was promulgated pursuant to section 105 of the Comprehensive Environmental Response, Compensation, and Liability Act (CERCLA) of 1980, as amended and is Appendix B of 40 CFR part 300, which is the National Oil and Hazardous Substances Pollution Contingency Plan (NCP). This Direct Final Deletion is being published by EPA with the concurrence of the State of New Jersey, through the New Jersey Department of Environmental Protection (NJDEP). EPA and NJDEP have determined that potentially responsible parties have implemented all appropriate response actions under CERCLA, and further remedial action pursuant to CERCLA is not appropriate. Moreover, EPA and NJDEP have determined that the Site poses no significant threat to public health and the environment.

DATES: This direct final deletion will be effective August 27, 2007 unless EPA receives significant adverse comments by July 30, 2007. If significant adverse comments are received, EPA will publish a timely withdrawal of the direct final deletion in the Federal Register, informing the public that the deletion will not take effect.

ADDRESSES: Submit your comments, identified by Docket ID no. EPA-HQ-SFUND-1983-0002, by one of the following methods:

http://www.regulations.gov. Follow on-line instructions for submitting comments.

E-mail: robinson.nigel@epa.gov: Nigel Robinson, Remedial Project Manager seppi.pat@epa.gov: Pat Seppi, Community Involvement Coordinator.

Fax: (212) 637-4429

Mail: Nigel Robinson, Remedial Project Manager, U.S. Environmental Protection Agency, Region II, Emergency & Remedial Response Division, 290 Broadway, 19th Floor, New York, NY 10007; or Pat Seppi, Community Involvement Coordinator, U.S. Environmental Protection Agency, Region II, Public Affairs Division, 290 Broadway, 26th Floor, New York, NY 10007.

Hand delivery: U.S. Environmental Protection Agency, Emergency & Remedial Response Division, 290 Broadway, 19th Floor, New York, NY 10007.

Such deliveries are only accepted during the Docket's normal hours of operation, and special arrangements should be made for deliveries of boxed information.

Instructions: Direct your comments to Docket ID no. EPA-HQ-SFUND-1983-0002. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statue. Certain other material, such as copyrighted material, will be publicly available only in the hard copy. Publicly available docket materials are available either electronically in http://www.regulations.gov or in hard copy at:

U.S. Environmental Protection Agency, Region II, Superfund Records Center, 290 Broadway, Room 1828, New York, New York 10007-1866, (212) 637-4308, Hours: 9 a.m. to 5 p.m., Monday through Friday; and at

Atlantic County Library, Galloway Township Branch, 306 W. Jimmie Leeds Road, Pomona, NJ 08240; Hours: Mon-Th, 9 a.m.-8 p.m., Fri-Sat, 9 a.m.-5 p.m., (609) 652-2352.

Nigel Robinson, Remedial Project Manager, Emergency & Remedial Response Division, U.S. Environmental Protection Agency, Region II, 290 Broadway, 19th floor, New York, New York 10007-1866; or e-mail to: robinson.nigel@epa.gov.

FOR FURTHER INFORMATION CONTACT: Mr. Nigel Robinson, Remedial Project Manager, U.S. Environmental Protection Agency, Emergency & Remedial Response Division, 290 Broadway, 19th floor, New York, New York 10007; telephone number (212) 637-4394; Fax Number (212) 637-4429; e-mail address: robinson.nigel@epa.gov.

SUPPLEMENTARY INFORMATION:

Table of Contents

I. Introduction

II. NPL Deletion Criteria

III. Deletion Procedures

IV. Basis for Site Deletion

V. Deletion Action

I. Introduction

EPA Region II announces the deletion of the Mannheim Avenue Dump Superfund Site from the NPL. EPA maintains the NPL as the list of those sites that appear to present a significant risk to public health or the environment. Sites on the NPL can have remedial actions financed by the Hazardous Substances Superfund Response Trust Fund. As described in Section 300.425(e)(3) of the NCP, a site deleted from the NPL remains eligible for remedial actions if conditions at the site warrant such action.

EPA considers this action to be noncontroversial and routine, and therefore, EPA is taking it without prior publication of a Notice of Intent to Delete. This action will be effective August 27, 2007 unless EPA receives significant adverse comments by July 30, 2007 on this action or the parallel Notice of Intent to Delete published in the Notice section of today's Federal Register. If significant adverse comments are received within the 30-day public comment period of this action or the Notice of Intent to Delete, EPA will publish a timely withdrawal of this Direct Final Deletion before the effective date of the deletion and the deletion will not take effect. EPA will, if appropriate, prepare a response to comments and continue with the deletion process on the basis of the Notice of Intent to Delete and the comments already received. There will be no additional opportunity to comment.

Section II explains the criteria for deleting sites from the NPL. Section III discusses procedures that EPA is using for this action. Section IV discusses the Mannheim Avenue Dump Superfund Site and demonstrates how it meets the deletion criteria. Section V discusses EPA's action to delete the Site from the NPL unless adverse comments are received during the public comment period.

II. NPL Deletion Criteria

Section 300.425(e) of the NCP provides that sites may be deleted from the NPL where no further response is appropriate. EPA shall consider, in consultation with the State of New Jersey, whether any of the following criteria has been met:

i. Responsible parties or other parties have implemented all appropriate response actions required;

ii. All appropriate Fund-financed response under CERCLA has been implemented, and no further action by responsible parties is appropriate; or

iii. The remedial investigation has shown that the release poses no significant threat to public health or the environment and, therefore, taking remedial measures is not appropriate.

Further, the State of New Jersey shall concur with the deletion, in accordance with Section 300.425(e)(2) and the public will be informed of the proposed and final deletion action, in accordance with Section 300.425(e)(4) and (5). In addition, a site deleted from the NPL remains eligible for remedial actions if conditions at the Site warrant such action, in accordance with Section 300.425(e)(3).

III. Deletion Procedures

The following procedures apply to deletion of the Site:

(1) The EPA consulted with the NJDEP and NJDEP concurred with the deletion on August 30, 2006.

(2) A Final Close Out Report was prepared on April 2, 2007.

(3) Concurrently with the publication of this Direct Final Deletion, a Notice of Intent to has been published today in the “Notice” section of the Federal Register. Notices are also being published in a major local newspaper of general circulation at or near the Site and is being distributed to appropriate federal, state, and local government officials and other interested parties; the newspaper notice announces the 30-day public comment period concerning the Notice of Intent to Delete the Site from the NPL.

(4) The EPA placed copies of documents supporting the deletion in the Site information repositories identified above.

(5) If no significant adverse comments are received, the Site will be deleted. If adverse comments are received within the 30-day public comment period on this action, EPA will publish a timely notice of withdrawal of this deletion before its effective date and will prepare, if appropriate, a response to comments and may continue with the deletion process on the basis of the Notice of Intent to Delete and the comments received.

Deletion of a site from the NPL does not itself create, alter, or revoke any individual's rights or obligations. Deletion of a site from the NPL does not in any way alter EPA's right to take enforcement actions, as appropriate.

IV. Basis for Site Deletion

The following summary provides a brief description of the actions taken at this Site which provides the Agency's rationale for deletion. The Mannheim Avenue Dump Site is located along Mannheim Avenue in a two acre sand and gravel clearing occupying Lots 2 and 3 of Block 54 in Galloway Township, Atlantic County, New Jersey. The Site lies on Mannheim Avenue between Shiler Road and Clarks Landing Road. The Site is approximately 1,500 feet southeast of Tar Kiln Branch and two miles southwest of the Mullica River.

The Site was originally used as a sand and gravel excavation operation by Galloway Township for road construction materials. After mining operations ceased in 1964, the excavated portions of the Site were used for waste disposal. Beginning in 1964, Lenox, Inc. obtained permission from Galloway Township to use the Site to dispose of industrial waste produced at its manufacturing facility in Pomona, New Jersey. Drummed wastes from Lenox, Inc. along with other municipal waste were disposed of in the excavated areas and covered with soil. Leaded porcelain fragments and household refuse were also mixed in with the waste. An investigation by NJDEP in 1982 revealed that many of the drums were exposed and deteriorating. Samples collected from the exposed drums indicated the presence of trichloroethylene (TCE), toluene, ethylbenzene, methylene chloride, cadmium, lead, nickel and chromium. The Site was placed on the National Priorities List (NPL) in 1983. Under a 1984 EPA Administrative Order, Lenox, a PRP, undertook the removal and off-site disposal of waste material buried in soil mounds at the Site. In July and August of 1985, the site was fenced and approximately 25,000 pounds of waste, 95 percent of the wastes, were consolidated into drums and disposed of off-site. In June 1989, the remaining wastes were also disposed of, off-site. In 1985 and 1986, Lenox conducted soil, groundwater, surface water, and domestic well sampling. This sampling showed that the principal contaminants within the waste at the Site were lead and TCE. In accordance with a 1988 Administrative Order on Consent, Lenox and the Township of Galloway conducted a remedial investigation (RI). The RI revealed levels of TCE below the detection limit of 0.5 parts per million (ppm) for Site soils. For lead, only one of the twenty samples analyzed contained lead above EPA's acceptable level for residential use of 400 ppm. The average lead concentrations in these samples was 80 ppm, substantially below EPA's current cleanup criteria of 400 ppm. Consequently, no further action for Site soils was conducted under CERCLA.

On September 27, 1990, EPA issued a ROD for the groundwater remediation. The selected remedy included:

—Restoration of the groundwater aquifer to the maximum contaminant level (MCL) of 1 part per billion (ppb) for TCE by extracting contaminated groundwater from both the shallow and deep zones of the aquifer system, followed by on-site treatment and discharge of the treated groundwater back to the aquifer;

—Short-term and long-term monitoring of the groundwater to ensure the effectiveness of the system in removing contaminants and controlling migration; and

—Contingency planning to install individual carbon adsorption treatment units at residences, if monitoring indicates that site-related contamination is threatening residential wells.

In June 1991, Lenox and the Township of Galloway, entered into a Consent Decree with EPA to implement the remedy selected in the ROD. This implementation involved the performance of the Remedial Design (RD) and the construction of the remedy. Between November 1993 and January 1994, Lenox installed Point of Entry Treatment Systems (POETS) to six of the fourteen residential wells downgradient of the Site. The installation was based on the detection of low levels of TCE in one of the monitoring wells located on-site upgradient of the residential wells. POETS are granular activated carbon absorption filter systems that provide clean drinking water by removing organic contaminants from the incoming groundwater supply. The POETS were sampled on the same sampling schedule as the monitoring wells. In 1994, construction of the groundwater remediation system was completed and the system began operating. Sampling of the groundwater monitoring wells, the POETS and the treatment system influent and effluent was initially performed. After operating for 14 months, sampling data in 1995 indicated that TCE in the influent groundwater to the treatment plant had decreased to less than 1 ppb. The data prompted Lenox to petition EPA for permission to shut down the treatment plant. EPA agreed with the shut down of the treatment plant, but required that monitoring continue.

EPA conducted a five-year review of the site in September 1999 and found the remedy protective of human health and the environment. From January 1999 through April 2002, all but one monitoring well achieved the New Jersey Drinking Water Standard of 1 ppb for TCE. This well did however achieve the cleanup standard in October 2002. From October 2002 through October 2003, four rounds of groundwater sampling indicated that all monitoring wells had achieved the groundwater cleanup standard of 1 ppb for TCE. Based on the sampling data, EPA allowed the PRPs to discontinue groundwater monitoring at the site. The second five-year review, completed in September 2004 determined that the implemented remedy not only continued to be protective of human health and the environment but had achieved the goal set forth in the ROD of restoring the groundwater aquifer to Drinking Water Standard and recommended deletion of the site from the NPL.

In 2005, the PRPs initiated the closure of all monitoring and extraction wells; this task was completed in 2006. Monitoring is no longer being conducted because the site allows for unlimited use and unrestricted exposure, residential cleanup criteria have been achieved for both groundwater and soils. No further monitoring is required for POETS, since the residential groundwater cleanup criteria for the site has been achieved. The POETS are currently owned and maintained by the PRPs. Since the POETS are no longer required, they will either be disconnected or their ownership will be transferred to the homeowners who will then be responsible for future sampling and maintenance. The State of New Jersey and the Atlantic County Health Department are aware of this process and may decide to continue the sampling and maintenance of these POETS.

Public participation activities for the Site have been satisfied as required in CERCLA section 113(k), 42 U.S.C. 9613(k), and CERCLA section 117, 42 U.S.C. 9617. The RI/FS and the 1990 ROD were both subject to a public review process. The five-year reviews were also locally noticed to the public. All documents and information which EPA relied on or considered in reaching the conclusion that this Site can be deleted from the NPL are available to the public in the information repositories.

V. Deletion Action

The EPA, with concurrence of the State of New Jersey, has determined that all appropriate responses under CERCLA have been completed, and that no further response actions, under CERCLA are necessary. Therefore, EPA is deleting the Site from the NPL.

Because EPA considers this action to be noncontroversial and routine, EPA is taking it without prior publication. This action will be effective August 27, 2007 unless EPA receives adverse comments by July 30, 2007. If adverse comments are received within the 30-day public comment period, EPA will publish a timely withdrawal of this direct final notice of the deletion before the effective date of the deletion and it will not take effect and, EPA will prepare a response to comments and continue with the deletion process on the basis of the notice of intent to delete and comments already received. There will be no additional opportunity to comment.

List of Subjects in 40 CFR Part 300

Environmental protection, Air pollution control, Chemicals, Hazardous waste, Hazardous substances, Intergovernmental relations, Penalties, Reporting and recordkeeping requirements, Superfund, Water pollution control, Water supply.

Dated: April 27, 2007.
Alan J. Steinberg,
Regional Administrator, Region 2.

For the reasons set out in this document 40 CFR part 300 is amended as follows:

PART 300—[AMENDED]

1. The authority citation for Part 300 continues to read as follows:

Authority: 33 U.S.C. 1321(c)(2); 42 U.S.C. 9601-9675; E.O. 12777, 56 FR 54757, 3 CFR, 1991 Comp., p. 351; E.O. 12580, 52 FR 2923, 3 CFR, 1987 Comp., p. 193.

Appendix B—[Amended]

2. Table 1 of Appendix B to part 300 is amended under New Jersey (NJ) by removing the site name “Mannheim Avenue Dump” and the corresponding city/county designation “Galloway Township.”

[FR Doc. E7-12536 Filed 6-27-07; 8:45 am]

BILLING CODE 6560-50-P